DEPARTMENT OF COMMERCE

National Institute of Standards and Technology

Manufacturing Extension Partnership Advisory Board

AGENCY: National Institute of Standards and Technology, Commerce.

ACTION: Notice of open meeting.

SUMMARY: The National Institute of Standards and Technology (NIST) announces that the Manufacturing Extension Partnership (MEP) Advisory Board will hold an open meeting on March 7, 2018.

DATES: The meeting will be held Wednesday, March 7, 2018, from 8:00 a.m. to 5:00 p.m. Eastern Time.

ADDRESSES: The meeting will be held at the Reagan Building at 1300 Pennsylvania Ave. NW, Washington, DC 20004. Please note admittance instructions in the SUPPLEMENTARY INFORMATION section below.

FOR FURTHER INFORMATION CONTACT: Cheryl L. Gendron, Manufacturing Extension Partnership, National Institute of Standards and Technology, 100 Bureau Drive, Mail Stop 4800, Gaithersburg, Maryland 20899-4800, telephone number (301) 975-2785, email: cheryl.gendron@nist.gov.

SUPPLEMENTARY INFORMATION: The MEP Advisory Board is authorized under Section 3003(d) of the America COMPETES Act (Pub. L. 110-69), as amended by the American Innovation and Competitiveness Act, Public Law 114-329 sec. 501 (2017), and codified at 15 U.S.C. 278k(m), in accordance with the provisions of the Federal Advisory Committee Act, as amended, 5 U.S.C. App. The Hollings MEP Program (Program) is a unique program, consisting of centers in all 50 states and Puerto Rico with partnerships at the state, federal, and local levels. By statute, the MEP Advisory Board provides the NIST Director with: (1) Advice on the activities, plans, and policies of the Program; (2) assessments of the soundness of the plans and strategies of the Program; and (3) assessments of current performance against the plans of the Program. Background information on the MEP Advisory Board is available at http://www.nist.gov/mep/about/advisory-board.cfm.

Pursuant to the Federal Advisory Committee Act, as amended, 5 U.S.C. App., notice is hereby given that the MEP Advisory Board will hold an open meeting on Wednesday, March 7, 2018, from 8:00 a.m. to 5:00 p.m. Eastern Time. The meeting agenda will include an update on Hollings MEP programmatic operations, as well as provide guidance and advice on current activities related to the 2017-2022 MEP National Network Strategic Plan. The MEP Advisory Board will provide input to NIST on supply chain development with an emphasis on defense suppliers, in order to strengthen the defense industrial base; make recommendations on the development of research and performance metrics to support and enrich MEP Center evaluation; receive updates from external organizations that work closely with the Program regarding national and state economic challenges, opportunities, and data trends. The final agenda will be posted on the MEP Advisory Board website at http://www.nist.gov/mep/about/advisory-board.cfm.

Individuals and representatives of organizations who would like to offer comments and suggestions related to the MEP Advisory Board's business are invited to request a place on the agenda. Approximately 15 minutes will be reserved for public comments at the end of the meeting. Speaking times will be assigned on a first-come, first-served basis. The amount of time per speaker will be determined by the number of requests received but is likely to be no more than three to five minutes each. Requests must be received in writing before February 28, 2018 to be considered. The exact time for public comments will be included in the final agenda that will be posted on the MEP Advisory Board website at http://www.nist.gov/mep/about/advisory-board.cfm. Questions from the public will not be considered during this period. Speakers who wish to expand upon their oral statements, those who wished to speak but could not be accommodated on the agenda, or those who are/were unable to attend in person are invited to submit written statements to the MEP Advisory Board, National Institute of Standards and Technology, 100 Bureau Drive, Mail Stop 4800, Gaithersburg, Maryland 20899-4800, via fax at (301) 963-6556, or electronically by email to cheryl.gendron@nist.gov.

Admittance Instructions: Anyone wishing to attend the MEP Advisory Board meeting must submit their name, email address and phone number to Cheryl Gendron (Cheryl.Gendron@nist.gov or 301-975-2785) no later than Friday, March 2, 2018, 5:00 p.m. Eastern Time.

Kevin Kimball,
Chief of Staff.

[FR Doc. 2018-03683 Filed 2-22-18; 8:45 am]

BILLING CODE 3510-13-P